DEPARTMENT OF TRANSPORTATION

Federal Aviation Administration

14 CFR Part 39

[Docket No. FAA-2025-0198; Project Identifier MCAI-2024-00762-T; Amendment 39-22956; AD 2025-03-08]

RIN 2120-AA64

Airworthiness Directives; Airbus SAS Airplanes

AGENCY: Federal Aviation Administration (FAA), DOT.

ACTION: Final rule; request for comments.

SUMMARY: The FAA is adopting a new airworthiness directive (AD) for all Airbus SAS Model A318, A319, A320, and A321 series airplanes; Model A330-200, -200 Freighter, -300, -800, and -900 series airplanes; and Model A340-200, -300, -500, and -600 series airplanes. This AD was prompted by reports of trimmable horizontal stabilizer actuators (THSAs) being delivered to operators having erroneous information (accumulated life) in the authorized release certificate. This AD requires contacting Collins Aerospace for amended authorized release certificates for the affected parts and replacing the affected parts if necessary, and prohibits the installation of affected parts, as specified in a European Union Aviation Safety Agency (EASA) AD, which is incorporated by reference. The FAA is issuing this AD to address the unsafe condition on these products.

DATES: This AD is effective February 26, 2025.

The Director of the Federal Register approved the incorporation by reference of certain publications listed in this AD as of February 26, 2025.

The FAA must receive comments on this AD by March 28, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0198; or in person at Docket Operations between 9 a.m. and 5 p.m., Monday through Friday, except Federal holidays. The AD docket contains this final rule, the mandatory continuing airworthiness information (MCAI), any comments received, and other information. The street address for Docket Operations is listed above.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• For Collins Aerospace material identified in this AD, contact Collins Aerospace, Product Support Department 13, Avenue de L'Eguillette—Saint-Ouen L'Aumone, Boite Postale 7186 95056 Cergy Pontoise Cedex, France; telephone 1-877-808-7575; email crc@collins.com; website https://www.collinsaerospace.com/support.

• You may view this material at the FAA, Airworthiness Products Section, Operational Safety Branch, 2200 South 216th St., Des Moines, WA. For information on the availability of this material at the FAA, call 206-231-3195. It is also available at regulations.gov under Docket No. FAA-2025-0198.

FOR FURTHER INFORMATION CONTACT: Timothy Dowling, Aviation Safety Engineer, FAA, 2200 South 216th St., Des Moines, WA 98198; phone 206-231-3667; email timothy.p.dowling@faa.gov.

SUPPLEMENTARY INFORMATION:

Comments Invited

The FAA invites you to send any written data, views, or arguments about this final rule. Send your comments to an address listed under the ADDRESSES section. Include “Docket No. FAA-2025-0198; Project Identifier MCAI-2024-00762-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Timothy Dowling, Aviation Safety Engineer, FAA, 2200 South 216th St., Des Moines, WA 98198; phone 206-231-3667; email timothy.p.dowling@faa.gov. Any commentary that the FAA receives which is not specifically designated as CBI will be placed in the public docket for this rulemaking.

Background

EASA, which is the Technical Agent for the Member States of the European Union, has issued EASA AD 2024-0247, dated December 18, 2024 (EASA AD 2024-0247) (also referred to as the MCAI), to correct an unsafe condition for all Airbus SAS Model A318 and A319 series airplanes; Model A320-211, 212, -214, -215, -216, -231, -232, -233, -251N, -252N, -253N, -271N, -272N, and -273N airplanes; Model A321 series airplanes; Model A330-201, -202, -203, -223, -243, -223F, -243F, -301, -302, -303, -321, -322, -323, -341, -342, -343, -743L, -841, and -941 airplanes; and Model A340-211, -212, -213, -311, -312, -313, -541, -542, -642, and -643 airplanes. Model A320-215, A330-743L, A340-542, and A340-643 airplanes are not certificated by the FAA and are not included on the U.S. type certificate data sheet; this AD therefore does not include those airplanes in the applicability. The MCAI states that occurrences were reported of THSAs delivered to operators having erroneous information (accumulated life) in the authorized release certificates. These THSAs were released to service between 2014 and 2024 at some Collins Aerospace Maintenance, Repair, and Overhaul (MRO) facilities where the THSA screw jack assemblies were replaced with parts having higher cumulative operating life than was documented on the authorized release certificates.

The FAA is issuing this AD to address erroneous accumulated life information in the THSA release certificate, which could lead to operation of the THSA beyond the certificated life limit; operation of the THSA beyond the certificated life limit could result in failure of the THSA and consequent reduced controllability of the airplane.

You may examine the MCAI in the AD docket at regulations.gov under Docket No. FAA-2025-0198.

Material Incorporated by Reference Under 1 CFR Part 51

EASA AD 2024-0247 specifies procedures for contacting Collins Aerospace for approved instructions for obtaining amended authorized release certificates, which will allow operators to correctly manage the maintenance consequences of erroneous accumulated life values and ensure compliance with ADs and required airworthiness limitations (Airworthiness Limitations Section (ALS) Part 4). EASA AD 2024-0247 also specifies procedures for replacement of affected THSAs and prohibits the installation of affected THSAs.

This AD also requires Collins Aerospace Vendor Service Information Letter FA3T1-27-04, dated August 6, 2024, which provides a list of affected THSAs that were repaired at Collins Aerospace MRO facilities between 2014 and 2024 and released with incorrect authorized release certificates containing erroneous accumulated life values.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this AD after determining that the unsafe condition described previously is likely to exist or develop on other products of the same type design.

Requirements of This AD

This AD requires accomplishing the actions specified in the material described previously, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2024-0247 is incorporated by reference in this AD. This AD requires compliance with EASA AD 2024-0247 in its entirety through that incorporation, except for any differences identified as exceptions in the regulatory text of this AD. Using common terms that are the same as the heading of a particular section in EASA AD 2024-0247 does not mean that operators need comply only with that section. For example, where the AD requirement refers to “all required actions and compliance times,” compliance with this AD requirement is not limited to the section titled “Required Action(s) and Compliance Time(s)” in EASA AD 2024-0247. Material required by EASA AD 2024-0247 for compliance will be available at regulations.gov under Docket No. FAA-2025-0198 after this AD is published.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because erroneous accumulated life values could significantly affect the operator's ability to accurately manage compliance with ADs and ALS Part 4 (airworthiness limitations) and cause operation of the THSA beyond the certificated life limit, which could result in failure of the THSA and consequent reduced controllability of the airplane. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 2,087 airplanes of U.S. registry. The FAA estimates the following costs to comply with this AD:

Estimated Costs for Required Actions
Labor cost | Parts cost | Cost per product | Cost on U.S. operators
1 work-hour × $85 per hour = $85 | $0 | $85 | $177,395

The FAA has received no definitive data that would enable the agency to provide cost estimates for the on-condition replacement specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-03-08 Airbus SAS: Amendment 39-22956; Docket No. FAA-2025-0198; Project Identifier MCAI-2024-00762-T.

(a) Effective Date

This airworthiness directive (AD) is effective February 26, 2025.

(b) Affected ADs

None.

(c) Applicability

This AD applies to all Airbus SAS Model airplanes, certificated in any category, as identified in paragraphs (c)(1) through (6) of this AD.

(1) Airbus SAS Model A318-111, -112, -121, and -122 airplanes.

(2) Airbus SAS Model A319-111, -112, -113, -114, -115, -131, -132, -133, -151N, -153N, -171N, and -173N airplanes.

(3) Airbus SAS Model A320-211, -212, -214, -216, -231, -232, -233, -251N, -252N, -253N, -271N, -272N, and -273N airplanes.

(4) Airbus SAS Model A321-111, -112, -131, -211, -212, -213, -231, -232, -251N, -252N, -253N, -271N, -272N, -251NX, -252NX, -253NX, -253NY, -271NX, and -272NX airplanes.

(5) Airbus SAS Model A330-201, -202, -203, -223, -243, -223F, -243F, -301, -302, -303, -321, -322, -323, -341, -342, -343, -841, and -941 airplanes.

(6) Airbus SAS Model A340-211, -212, -213, -311, -312, -313, -541, and -642 airplanes.

(d) Subject

Air Transport Association (ATA) of America Code 27, Flight Controls.

(e) Unsafe Condition

This AD was prompted by reports of trimmable horizontal stabilizer actuators (THSAs) being delivered to operators having erroneous information (accumulated life) in the authorized release certificate. The FAA is issuing this AD to address erroneous accumulated life information in the THSA release certificate, which could lead to operation of the THSA beyond the certificated life limit; operation of the THSA beyond the certificated life limit could result in failure of the THSA and consequent reduced controllability of the airplane.

(f) Compliance

Comply with this AD within the compliance times specified, unless already done.

(g) Requirements

Except as specified in paragraph (h) of this AD: Comply with all required actions and compliance times specified in, and in accordance with, EASA AD 2024-0247, dated December 18, 2024 (EASA AD 2024-0247).

(h) Exceptions to EASA AD 2024-0247

(1) Where EASA AD 2024-0247 refers to its effective date, this AD requires using the effective date of this AD.

(2) Where EASA AD 2024-0247 defines a serviceable part as “A THSA eligible for installation in accordance with Airbus instructions,” this AD requires replacing that text with “A THSA eligible for installation.”

(3) Where EASA AD 2024-0247 defines “the VSIL,” for this AD, operators must use Collins Aerospace Vendor Service Information Letter FA3T1-27-04, dated August 6, 2024.

(4) This AD requires replacing Note 1 of EASA AD 2024-0247 with “If no approved instructions are provided within the compliance time of paragraph (1) of this AD, paragraph (2) of this AD must be accomplished before further flight. The affected part is eligible to be considered a serviceable part based on the content of the Collins Aerospace approved instructions, once received and accomplished, as required in paragraph (1) of this AD.”

(5) This AD does not adopt the “Remarks” section of EASA AD 2024-0247.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(j) Additional Information

For more information about this AD, contact Timothy Dowling, Aviation Safety Engineer, FAA, 2200 South 216th St., Des Moines, WA 98198; phone 206-231-3667; email timothy.p.dowling@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0247, dated December 18, 2024.

(ii) Collins Aerospace Vendor Service Information Letter FA3T1-27-04, dated August 6, 2024.

(3) For EASA material identified in this AD, contact EASA, Konrad-Adenauer-Ufer 3, 50668 Cologne, Germany; telephone +49 221 8999 000; email ADs@easa.europa.eu; website easa.europa.eu. You may find this material on the EASA website at ad.easa.europa.eu.

(4) For Collins Aerospace material identified in this AD, contact Collins Aerospace, Customer Support Center, 2730 West Tyvola Road, Charlotte, NC 28217; telephone 860-654-2500; email publications@collins.com; website customers.collinsaerospace.com.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on February 4, 2025.
Peter A. White,
Deputy Director, Integrated Certificate Management Division, Aircraft Certification Service.

[FR Doc. 2025-02494 Filed 2-7-25; 11:15 am]

BILLING CODE 4910-13-P